DEPARTMENT OF THE INTERIOR

National Park Service

[NPS-WASO-NAGPRA-23486; PPWOCRADN0-PCU00RP14.R50000]

Notice of Inventory Completion for Native American Human Remains and Associated Funerary Objects in the Possession of the U.S. Department of the Interior, National Park Service, Lake Meredith National Recreation Area, Fritch, TX; Correction

AGENCY: National Park Service, Interior.

ACTION: Notice; correction.

SUMMARY: The U.S. Department of the Interior, National Park Service, Lake Meredith National Recreation Area, has corrected an inventory of human remains and associated funerary objects published in a Notice of Inventory Completion in the Federal Register on June 18, 2001. This notice corrects the minimum number of individuals and number of associated funerary objects. Lineal descendants or representatives of any Indian Tribe or Native Hawaiian organization not identified in this notice that wish to request transfer of control of these human remains and associated funerary objects should submit a written request to Lake Meredith National Recreation Area. If no additional requestors come forward, transfer of control of the human remains and associated funerary objects to the lineal descendants, Indian Tribes, or Native Hawaiian organizations stated in this notice may proceed.

DATES: Lineal descendants or representatives of any Indian Tribe or Native Hawaiian organization not identified in this notice that wish to request transfer of control of these human remains and associated funerary objects should submit a written request with information in support of the request to Lake Meredith National Recreation Area at the address in this notice by August 21, 2017.

ADDRESSES: Robert Maguire, Superintendent, Lake Meredith National Recreation Area, P.O. Box 1460, Fritch, TX 79036, telephone (806) 857-3151, email robert_maguire@nps.gov.

SUPPLEMENTARY INFORMATION: Notice is here given in accordance with the Native American Graves Protection and Repatriation Act (NAGPRA), 25 U.S.C. 3003, of the correction of an inventory of human remains and associated funerary objects under the control of the U.S. Department of the Interior, National Park Service, Lake Meredith National Recreation Area, Fritch, TX. The human remains and associated funerary objects were removed from sites in Potter County, TX.

This notice is published as part of the National Park Service's administrative responsibilities under NAGPRA, 25 U.S.C. 3003(d)(3). The determinations in this notice are the sole responsibility of the Superintendent, Lake Meredith National Recreation Area.

This notice corrects the minimum number of individuals and number of associated funerary objects published in a Notice of Inventory Completion in the Federal Register (66 FR 32845-32846, June 18, 2001). A re-evaluation of the inventory resulted in an increase in the minimum number of individuals removed from the Footprint site. The total number of associated funerary objects has been found to be incorrectly calculated, though all funerary objects are accounted for. Transfer of control of the items in this correction notice has not occurred.

Correction

In the Federal Register (66 FR 32845, June 18, 2001), column 2, paragraph 2, sentence 1 is corrected by substituting the following sentence:

In 1964, human remains representing a minimum of 43 individuals were recovered during legally-authorized excavation by F.E. Green of Texas Tech University at the Footprint site, then under the management of the U.S. Department of the Interior, Bureau of Reclamation.

In the Federal Register (66 FR 32845, June 18, 2001), column 3, paragraph 2, sentences 1 and 2 are corrected by substituting the following sentences:

Based on the above-mentioned information, the superintendent of Lake Meredith National Recreation Area has determined that, pursuant to 43 CFR 10.2 (d)(1), the human remains listed above represent the physical remains of 49 individuals of Native American ancestry. The superintendent of Lake Meredith National Recreation Area also has determined that, pursuant to 43 CFR 10.2 (d)(2), the 347 objects listed above are reasonably believed to have been placed with or near individual human remains at the time of death or later as a part of a death rite or ceremony.

Additional Requestors and Disposition

Lineal descendants or representatives of any Indian Tribe or Native Hawaiian organization not identified in this notice that wish to request transfer of control of these human remains and associated funerary objects should submit a written request with information in support of the request to Robert Maguire, Superintendent, Lake Meredith National Recreation Area, P.O. Box 1460, Fritch, TX 79036, telephone (806) 857-3151, email robert_maguire@nps.gov, by August 21, 2017. After that date, if no additional requestors have come forward, transfer of control of the human remains and associated funerary objects to the Kiowa Indian Tribe of Oklahoma, and the Wichita & Affiliated Tribes (Wichita, Keechi, Waco & Tawakonie), Oklahoma, may proceed.

Lake Meredith National Recreation Area is responsible for notifying the Caddo Nation of Oklahoma; Cheyenne and Arapaho Tribes, Oklahoma (previously listed as the Cheyenne-Arapaho Tribes of Oklahoma); Comanche Nation, Oklahoma; Kiowa Indian Tribe of Oklahoma; Pawnee Nation of Oklahoma; Wichita and Affiliated Tribes (Wichita, Keechi, Waco & Tawakonie), Oklahoma; and the Cohuiltecan Nation, an Indian group that is not federally recognized, that this notice has been published.

Dated: May 30, 2017.
Melanie O'Brien,
Manager, National NAGPRA Program.

[FR Doc. 2017-15217 Filed 7-19-17; 8:45 am]

BILLING CODE 4312-52-P